SOCIAL SECURITY ADMINISTRATION

Statement of Organization, Functions and Delegations of Authority

This statement amends Part S of the Statement of the Organization, Functions and Delegations of Authority that covers the Social Security Administration (SSA). Notice is hereby given that Subchapter S4E, which covers the Office of Telecommunications and Systems Operations, is being amended to reflect a realignment of functions and renaming of one subordinate organization. The new material and changes are as follows:

Section S4E.10 The Office of Telecommunications and Systems Operations—(Organization)

Delete: K. The Division of Telecommunications Systems (S4EN)

Establish: K. The Division of Monitoring and Online Systems (S4EN)

Section S4E.10 The Office of Telecommunications and Systems Operations—(Functions)

Replace in its entirety:

D. Division of Systems User Services and Facilities (S4EE)

1. Provides all data center computer hardware implementation support for OTSO and coordinates the installation of all major hardware and software. Provides technical evaluation support for the procurement, acceptance, testing, installation and implementation of equipment and software.

2. Plans and coordinates computer facility environmental systems requirements. Provides computer facilities support for all Agency computer processing centers.

3. Provides a centralized contact for the management of all online storage media resources in the National Computer Center (NCC) and the Program Service Centers (PSC). Manages enterprise-level data storage resources in both mainframe and open systems environments to maintain the integrity, reliability, and performance of state-of-the-art storage technology. Responsible for all business critical data backup and recovery planning and operation. Advises Agency management on all aspects of data and storage media management.

4. Provides technical oversight for the Agency on high volume, enterprise-class printing technology and hardware. Responsible for reengineering SSA print workloads to take advantage of new print technology and automated mail insertion technology.

5. Provides all electronic scanning and imaging computer hardware and software implementation support for SSA. Coordinates the installation of all major scanning and imaging hardware and software. Provides technical evaluation support for the procurement, acceptance, testing, installation and implementation of scanning and imaging equipment and software.

6. Responsible for the design, development, acquisition, implementation and management of automated data center operations management hardware and software tools for OTSO.

G. The Division of Operational Capacity Performance Management (S4EJ)

1. Evaluates computer performance and monitors resource utilization to ensure that OTSO's operational computer systems capacity is utilized effectively and efficiently. Ensures that OTSO's systems performance objectives are being met and that databases are efficiently implemented. Prepares recommendations to OTSO management and as directed, performs similar functions for other SSA components.

2. Ensures that sufficient IT capacity is available to process present and future workloads, coordinating decisions on target systems for new/modified workloads and systems configuration changes.

3. Serves as the Office of Systems resource and repository for Enterprise Capacity Planning data and reporting.

4. Provides recommendations and services to other OTSO components in the interpretation of reports and data resulting from evaluation and utilization studies.

5. Uses operational research tools to investigate operational efficiency problems and develop workload and utilization relationships.

6. Responsible for analysis of configuration, topology, connectivity, automation and availability of SSA's national network in support of performance management, resource utilization and capacity planning. Responsible for long-term network management resource utilization reporting and problem management reporting.

7. Performs modeling and analysis of new applications and designs to determine performance impacts. Projects future capacity requirements for Enterprise Systems components and continually monitors performance to validate projections.

8. Collects data necessary to measure operations performance in providing timely output services as delineated in the Service Level Agreements (SLA). Prepares periodic reports on SLA compliance.

9. Identifies the cause of Enterprise performance problems and reports the findings.

10. Directs the design, development and implementation of software to gather and report statistical information on the functioning of SSA Enterprise Systems. Evaluates and implements COTS performance management software, and designs, develops and implements custom capacity performance data collection and reporting system. Distributes the information to other SSA components to report on performance and utilization.

11. Responsible for 800 number voice utilization data collection and reporting.

H. The Division of Telecommunications Security and Standards (S4EK)

1. Develops, publishes and implements standards and operating procedures within OTSO. Develops and controls enforcement mechanisms to ensure adherence to operational standards. Administers the Federal systems standards program within OTSO.

2. Directs the planning, implementation and evaluation of the systems security program in OTSO and SSA privacy and security policies.

3. Serves as OTSO liaison with other SSA components in matters of privacy and security. Provides for the security of all OTSO resources in the centralized OTSO computer boundaries established by the Deputy Commissioner for Finance, Assessment and Management.

4. Provides planning, evaluation and oversight on disaster recovery capabilities in order to maintain continuity of data center operations. Develops, implements and evaluates systems and procedures for the security and protection of data. Directs the continuity of operations program for OTSO.

I. The Division of Resource Management and Acquisition (S4EL)

1. Directs OTSO's participation in the Information Technology Systems (ITS) procurement process. Manages, plans, and coordinates the activities relating to business and financial planning of SSA's telecommunications needs.

2. Performs technical and cost reviews of all OTSO/ITS procurements. Performs technical review of procurement proposals for ITS resources, network hardware, software and related services.

3. Provides support for ITS Technical Evaluation Committees.

4. Supports contract administration for all OTSO/ITS contracts.

5. Provides technical support to Project Officers in the development, modification and administration of ITS contracts.

6. Directs the renewal process for existing lease and maintenance contracts for ITS and telecommunications equipment and services.

7. Manages the fiscal administration of ITS contracts, collecting, analyzing and reporting performance data to support required fiscal and other contractual proceedings.

8. Provides for the centralized certification and authorization for the lease and maintenance of SSA's ITS and telecommunications equipment.

9. Provides necessary staff support to users within OTSO for the development of procurement documents and documentation.

10. Develops short-term and long-range tactical and strategic planning and maintains the OTSO macro-procurement plan which relates to planned acquisitions of ITS and telecommunications equipment, software, system design and system support services and implementation of telecommunication expansion.

11. Serves as Project Officer for ITS re-competition/ongoing maintenance contracts.

12. Provides technical support to OTSO and other SSA components during major procurement activities. Ensures that procurement documentation complies with directives published by SSA and higher monitoring authorities. Provides recommendations for disposition of procurement proposals for ITS resources.

13. Formulates an OTSO-wide Systems Plan and assigns responsibility to OTSO components for various parts of the Plan. Works with OTSO components to evaluate their proposed systems objectives in terms of technical feasibility, availability of resources and systems costs. Identifies the major OTSO activities and resources needed to support these objectives. Directs and coordinates the OTSO technical work-power, equipment and other special costs for the SSA budget process and justifies these on the basis of the President's Management Agenda and the Commissioner's priorities.

14. Directs the preparation of detailed project plans, including resource estimates for projects of which OTSO has the lead. Monitors progress and use of work-power and equipment resources by OTSO components against their approved plans. Develops standard methods for project management and assists OTSO components in their use.

15. Manages a centralized inventory of all SSA ITS and telecommunications equipment, and manages the ITS excess equipment process.

J. The Division of Integration and Environmental Testing (S4EM)

1. Directs and controls all activities with the release of new or enhanced versions of host, client/server, and web (internet/intranet) programmatic and telecommunications-related software. Enforces software acceptance and certifications standards. Directs the staging of program modules to be tested.

2. Develops and maintains extensive test databases for use in the acceptance, integration and environmental testing processes. Develops and incorporates the use of software simulators and emulators in software acceptance testing.

3. Directs the integration testing of new or enhanced communications host, client/server, and web (internet/intranet) software, and network communications software. Participates in the movement and/or migration of software systems and associated files between complexes and processing components. Directs the migration of web software.

4. Directs environmental testing to ensure that all new or enhanced software is compatible with changing hardware configurations. Directs the integration of new or enhanced SSA programmatic software. Administers the generation of finalized testing results for evaluation. Directs software performance evaluations, parallel testing, timing studies, inter/intra-system relationship and testing trend analysis.

5. Responsible for administering integration and acceptance testing for production IT hardware.

6. Provides the checks and balances on SSA's production IT systems and equipment procurement for complying with contractual performance requirements throughout the life cycle of the procurement.

7. For all host, client/server, and web (internet/intranet) application software, manages and controls libraries, controls and migrates software into the production environment. For host implementations, designs and develops backup and recovery procedures. For client/server, develops installation scripts for migration of software to production.

8. Administers all activities pertaining to configuration management for the OTSO change management system.

9. Responsible for SSANet software distribution and version management.

10. Serves as the focal point for release coordination activities for the integration and production phases of the life cycle for host, client/server and web (internet/intranet) applications.

11. Develops and maintains pristine workstation images for the configurations/builds in the production environment.

K. The Division of Monitoring and Online Systems (S4EN)

1. Procures, installs, modifies and tunes all online/batch teleprocessing monitor systems software, vendor support products, data base management systems, web based and middle-ware solutions. Designs, modifies, implements and installs specialized teleprocessing system software to support new teleprocessing application software including in-house modifications.

2. Directs the continuous monitoring of all teleprocessing, data base and middle-ware system software and performs problem determination and resolution.

3. Participates in the establishment of teleprocessing software standards for application design and for the use of data base packages within the SSA network environment. Formulates policy for data base applications software systems and monitors and optimizes performance of that software.

4. Develops teleprocessing software procedures for computer operations components.

5. Manages all online teleprocessing and data base management systems.

6. Installs and manages Unix operating systems on distributed data base and data base backup servers.

M. The Division of National Network Services and Operations (S4EQ)

1. Manages the installation, relocation and operation of SSA's telecommunications network facilities for the transmission of program and management data over SSA established networks.

2. Monitors telecommunications operations, analyzes equipment problems and effects proper maintenance and repair.

3. Develops and directs the implementation of new procedures and updates existing procedures for network node operations.

4. Reports outages to vendor management for prompt resolution and is responsible for the repair of advanced communications electronics equipment.

5. Provides emergency support services for equipment reconfiguration as well as repair, assembly/disassembly and installation of advanced telecommunications electronics.

6. Serves as the initial point of contact for user and technical problem determination for telecommunications. Diagnoses data-center hardware and network problems and coordinates network operations issues with applications and systems support staff.

7. Monitors and controls functions for the nationwide telecommunications system. Develops operational procedures to modernize and streamline network operation and develops plans for automation.

8. Manages traffic flow between telecommunications complexes and other SSA complexes.

9. Communicates status of the network to other network nodes and advises users of abnormal or extraordinary situations affecting network operations.

10. Monitors voice communications operations, analyzes equipment problems and effects proper maintenance and repair.

11. Directs all teleprocessing system software problem determination and resolution.

12. Coordinates with other OTSO components in addressing teleprocessing software concerns regarding system capacity issues and system configuration proposals.

13. Operates and maintains an integrated systems and technical coordination control center and help desk to coordinate problem identification and resolution activities.

14. Operates large scale computer resources providing level 3 monitoring and problem determination for large scale operations, online teleprocessing regions and data base management systems.

15. Provides operational status and workload information to field offices using the SSA telecommunications network. Provides statistical analyses of, and reports on, operations performance at meeting both user and computer center management service objectives.

16. Serves as focal point for all user systems problems, questions, complaints and corrective actions regarding the full range of production services.

O. The Division of Client/Server Configuration (S4ES)

1. Directs the design, development, implementation, maintenance and support of specialized data communications software (i.e., Email and Remote LAN Access) to support SSA's international network (SSANet).

2. Manages and coordinates all change management system control relating to client server hardware and software changes to SSANet under the auspices of the change management facility.

3. Performs Level 3 client server monitoring and problem determination for the SSANet.

4. Interfaces with SSANet users to determine the impact of new applications and workloads and supports user liaison and systems development activities of other SSA components in the resolution of client server problems.

5. Manages client server software changes to ensure compatibility with hardware modifications at Central Office and all remote network platform locations.

6. Directs the planning, analysis and design of specialized client server software systems for providing information relevant to the development of existing and proposed client server systems.

7. Responsible for client server projects, including acquisition, implementation, integration and control.

8. Develops, disseminates and enforces standards and policies relating to workstations, workstation configurations, peripherals, LANs and LAN operating systems (OS).

9. Works with SSA users to provide solutions to LAN telecommunications needs that are consistent with SSA-network architecture policies; determines client server interfacing hardware needs, implementing solutions, planning and expansion; and determines staff hardware training needs. Assists SSA client server users in determining and refining services and support requirements, configuration and engineering solutions, planning for future needs, coordinating implementation and evaluating effectiveness.

10. Develops and distributes research papers on applied technology and its relationship to existing and future client server requirements. Also develops alternate systems configurations to meet specific alternative requirements (non-traditional technology approaches).

11. Solves client server problems by applying information on state-of-the-art OS, and client server hardware currently available in the marketplace. Develops turn-key client server systems and special menus to meet unusual customer requirements.

12. Works with SSA client server users at the headquarters' campus and at OHA, OGC and OIG sites as well as the state DDS sites; to develop, test and support component specific applications, initiatives and configurations.

13. Performs systems analysis, configuration design, and software selection, implementation and procurement support for microcomputers, minicomputers and computer graphics system and equipment for various components of OTSO. Provides state-of-the-art technical expertise including the evaluation of new and existing systems activities and provides support for enhancements, modifications, design and/or redesign. Researches and tests current off-the-shelf products for their network configuration to LAN and workstation needs. Researches and analyzes emerging office systems developments to ensure technology awareness and provide supporting systems development, design and planning implementation.

14. Responsible for all aspects of engineering (hardware and software), design, configuration, implementation and maintenance of host architecture for multiple remote LAN access/mobile computing solutions for SSA. Includes all private host/client architectures, Virtual Private Network, and wireless access to SSANet via computers and PDAs.

15. Conducts research and development of state-of-the-art technology for the purpose of remote connectivity as well as improved remote systems security. This includes potential hardware and software solutions as well as biometrics technology.

16. Supports multiple telecommunications methods of remote connectivity including analog, ISDN, Cable/DSL and Satellite for both mobile and static locations.

17. Conducts hardware evaluation for notebook-computer products that may be used for remote access agencywide, including addressing compatibility issues with existing product lines as well as Section 508 considerations.

18. Supports configuration management and installation of local area networks including building, configuring and imaging workstations and servers.

Dated: October 15, 2002.
Reginald F. Wells,
Deputy Commissioner for Human Resources.

[FR Doc. 02-26918 Filed 10-22-02; 8:45 am]

BILLING CODE 4191-02-P